DEPARTMENT OF JUSTICE

Notice of Lodging Proposed Consent Decree

In accordance with Departmental Policy, 28 CFR 50.7, notice is hereby given that a proposed Consent Decree in United States v. Candle Development, LLC, Case No. 08-4086, was lodged with the United States District Court for the District of South Dakota, Southern Division, on June 3, 2011.

This proposed Consent Decree concerns a complaint filed by the United States against Candle Development, LLC, pursuant to Sections 301, 309, and 404 of the Clean Water Act, 33 U.S.C. 1311, 1319, and 1344, to obtain injunctive relief from and impose civil penalties against the Defendants for violating the Clean Water Act by, among other things, discharging pollutants without a permit into waters of the United States. The proposed Consent Decree resolves these allegations by requiring the Defendants to restore the impacted areas and/or mitigate the damages and to pay a civil penalty.

The Department of Justice will accept written comments relating to this proposed Consent Decree for thirty (30) days from the date of publication of this Notice. Please address comments to David A. Carson, United States Department of Justice, Environment and Natural Resources Division, 999 18th Street, South Terrace, Suite 370, Denver, Colorado, 80202, and refer to United States v. Candle Development, LLC, DJ# 90-5-1-1-17957.

The proposed Consent Decree may be examined at the Clerk's Office, United States District Court for the District of South Dakota, Southern Division. In addition, the proposed Consent Decree may be viewed at http://www.usdoj.gov/enrd/Consent_Decrees.html.

Cherie Rogers,
Assistant Section Chief, Environmental Defense Section, Environment & Natural Resources Division.

[FR Doc. 2011-14234 Filed 6-8-11; 8:45 am]

BILLING CODE P